DEPARTMENT OF ENERGY

Federal Energy Regulatory Commission

[Docket No. CP05-390-000]

Great Lakes Gas Transmission Limited Partnership; Notice of Request Under Blanket Authorization

July 18, 2005.

Take notice that on July 5, 2005, Great Lakes Gas Transmission Limited Partnership (Great Lakes) 5250 Corporate Drive, Troy, Michigan 48098, filed in Docket No. CP05-390-000, a prior notice request pursuant to sections 157.205 and 157.208 of the Commission's Regulations under the Natural Gas Act (NGA) and Great Lakes' blanket certificate issued in Docket No. CP90-2053,¹ for authorization to inspect, repair and/or replace certain sections of its 36-inch outside-diameter natural gas mainline (100 Line) in Itasca, Aitkin and St. Louis Counties, Minnesota, which is on file with the Commission and open to public inspection.

¹ 52 FERC ¶ 62,291 (1990).

Specifically, Great Lakes will repair or replace up to 59 anomalies at 32 locations along its pipeline, identified by a Magnetic Flux Leakage In-line Inspection Tool as being possibly deteriorated by corrosion. Great Lakes states that the proposed project activities must be completed utilizing additional work space outside of Great Lakes' existing right of way due to the presence of unstable saturated soils in the project areas and the proximity of its 200 line (loop line) to the areas of the 100 line that requires inspection, remediation, and possible replacement.² Great Lakes estimates the total cost at up to $16 million.

² The proposed work would normally be preformed under Section 2.55 of the Commission Regulations, however in this project additional temporary work space is required outside of the 100 Line footprint.

Any questions concerning this application may be directed to John J. Wallbillich, Vice President, Legal and Environmental Affairs, Great Lakes Gas Transmission Company, 5250 Corporate Drive, Troy, Michigan 48098 at (248) 205-7426.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to § 157.205 of the Regulations under the Natural Gas Act (18 CFR 157.205) a protest to the request. If no protest is filed within the time allowed therefore, the proposed activity shall be deemed to be authorized effective the day after the time allowed for filing a protest. If a protest is filed and not withdrawn within 30 days after the time allowed for filing a protest, the instant request shall be treated as an application for authorization pursuant to section 7 of the Natural Gas Act.

Magalie R. Salas,
Secretary.

[FR Doc. E5-3925 Filed 7-21-05; 8:45 am]

BILLING CODE 6717-01-P